DEPARTMENT OF LABOR

Office of the Secretary

Submission for OMB review; Comment Request

November 15, 2001.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation contact Marlene Howze at ((202) 693-4158) or Email Howze-Marlene@dol.gov.

Comments should be sent to Office of Information and Regulatory Affairs, Attn: OMB Desk Officer for BLS, Office of Management and Budget, Room 10235, Washington, DC 20503 ((202) 395-7316), within 30 days from the date of this publication in the Federal Register.

The OMB is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and minimize the burden of the collection of information on those who are to respond, including through the use of appropriate automated, electronic, mechanical, or other technological collection techniques or other forms of information technology, e.g., permitting electronic submission of responses.

Type of Review: Extension of a currently approved collection.

Agency: Bureau of Labor Statistics (BLS).

Title: Census of Fatal Occupational Injuries.

OMB Number: 1220-0133.

Affected Public: State, Local or Tribal Government; Individuals or households; Business or other for-profit; Not-for-profit institutions; Farms and Federal Government.

Number of Respondents: 2,665.

Number of Annual Responses: 27,500.

Estimated Time Per Response and Total Burden Hours:

Form | Total respondents | Frequency | Average time per response (min.) | Estimated total burden (hours)
BLS CFOI-1 | 2,500 | Once | 20 | 833
Source Documents | 165 | On Occasion | 10 | 4,167
Totals | 2,665 |  |  | 5,000

Total Annualized Capital/Startup Costs: $0.

Total Annual Costs (operating/maintaining systems or purchasing services): $0.

Description: Section 24(a) of the Occupational Safety and Health Act of 1970 states that “the Secretary shall compile accurate statistics on work injuries and illnesses which shall include all disabling, serious, or significant injuries and illnesses * * *.” The Secretary of Labor has delegated this responsibility to the Bureau of Labor Statistics.

The Census of Fatal Occupational Injuries (CFOI) provides policy makers and the public with comprehensive, verifiable, and timely measures of fatal work injuries. Data are compiled from various Federal, State, and local sources and include information on how the incident occurred as well as various characteristics of the employer and the deceased worker. The information is used of surveillance of fatal work injuries and for developing prevention strategies. Data are uniformly coded by States and electronically transmitted to BLS for validation of coding and publication of results. If this information were not collected, the confusion over the number and patterns in fatal occupational injuries would continue, thus hampering prevention efforts. Collecting data using a single data source and without verification of work-relationship would compromise the integrity of CFOI data.

Ira L. Mills,
DOL Clearance Officer.

[FR Doc. 01-29506 Filed 11-27-01; 8:45 am]

BILLING CODE 4510-24-M